DEPARTMENT OF DEFENSE

Department of the Air Force HQ USAF Scientific Advisory Board Meeting

AGENCY: Department of the Air Force, DoD.

ACTION: Notice of meeting.

SUMMARY: Pursuant to Public Law 92-463, notice is hereby given of the forthcoming meeting of the 2003 S&T Review and the leadership of the Air Force Research Laboratory. The purpose of the meeting is to allow the SAB leadership to advise the commander of the AFRL on the outcome of the 2003 Review. Because classified and contractor-proprietary information will be discussed, this meeting will be closed to the public.

DATES: January 27, 2003.

ADDRESSES: Wright-Patterson AFB, Dayton, OH.

FOR FURTHER INFORMATION CONTACT: Maj. John Pernot, Air Force Scientific Advisory Board Secretariat, 1180 Air Force Pentagon, Rm 5D982, Washington, DC 20330-1180, (703) 697-4811.

Pamela D. Fitzgerald,
Air Force Federal Register Liaison Officer.

[FR Doc. 03-1571 Filed 1-22-03; 8:45 am]

BILLING CODE 5001-05-P